DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans that are final within the meaning of 23 U.S.C. 139(l)(1). The actions relate to a proposed highway project, improvement of the Interstate 680 and State Route 4 interchange in the community of Pacheco, County of Contra Costa, State of California. The improvements will be between post mile 20.2 and 22.2 on Interstate 680, and between post mile R10.5 and R15.1 on State Route 4. Those actions grant approvals for the project.

DATES: By this notice, the FHWA, on behalf of Caltrans, is advising the public of final agency actions subject to 23 U.S.C. 139(l)(1). A claim seeking judicial review of the Federal agency actions on the highway project will be barred unless the claim is filed on or before September 14, 2009. If the Federal law that authorizes judicial review of a claim provides a time period of less than 180 days for filing such claim, then that shorter time period still applies.

FOR FURTHER INFORMATION CONTACT: For Caltrans: Melanie Brent, Chief, Office of Environmental Analysis, California Department of Transportation, District 4, 111 Grand Avenue, Oakland, 9 a.m. to 4 p.m., 510-286-5231, melanie.brent@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans has taken final agency actions subject to 23 U.S.C. 139(l)(1) by issuing approvals for the following highway project in the State of California: Replacing the northbound I-680 to westbound SR 4 loop ramp with a two-lane direct connector, and the eastbound SR 4 to southbound I-680 diagonal ramp with another two-lane connector in the first two phases of the project to improve operational deficiencies. Subsequent phases add another lane in the median of both directions of SR 4 to provide additional weaving capacity, add an auxiliary lane on eastbound SR 4 from the interchange to the Solano Way off-ramp, and replace the southbound I-680 to eastbound SR 4 loop ramp, the northbound I-680 to eastbound SR 4 diagonal ramp, and the westbound SR 4 to northbound I-680 diagonal ramp with new connectors and ramps, and widen the westbound SR 4 to southbound I-680 loop ramp from one to two lanes. The project had a No Build Alternative in addition to the Build alternative. The anticipated permits include:

• 401 Water Quality Certification (from the Regional Water Quality Control Board under Section 401 of the Clean Water Act).

• 404 Nationwide Permit (from the U.S. Army Corps of Engineers under Section 404 of the Clean Water Act).

A public hearing/open house was held in Pacheco on August 22, 2006. The Environmental Assessment, Finding of No Significant Impact, which were approved on 26 November 2008, and other documents are available for public and agency review at the Caltrans address provided above.

The actions by the Federal agencies, and the laws under which such actions were taken, are described in the Environmental Assessment (EA) for the project, approved on 26 November 2008, in the FHWA Finding of No Significant Impact (FONSI) issued on 26 November 2008, and in other documents in the FHWA project records. The EA, FONSI, and other project records are available by contacting Caltrans at the address provided above. The Caltrans EA and FONSI can be viewed and downloaded from the project Web site at http://www.dot.ca.gov/dist4/envdocs.htm, or viewed at public libraries in the project area.

This notice applies to all Federal agency decisions as of the issuance date of this notice and all laws under which such actions were taken, including but not limited to:

1. General: National Environmental Policy Act (NEPA) [42 U.S.C. 4321-4351]; Federal Highway Act [23 U.S.C. 109].

2. Air: Clean Air Act [42 U.S.C. 7401-7671(q)].

3. Wildlife: Endangered Species Act [16 U.S.C. 1531-1544 and section 1536], Migratory Bird Treaty Act [16 U.S.C. 703-712].

4. Historic and Cultural Resources: Section 106 of the National Historic Preservation Act, as amended [16 U.S.C. 470(aa)-11]; Archaeological and Historic Preservation Act [16 U.S.C. 469-469(c)]; Native American Grave Protection and Repatriation Act [25 U.S.C. 3001-3013].

5. Social and Economic: Civil Rights Act of 1964 [42 U.S.C. 2000(d)-2000(d)(1)]; The Uniform Relocation Assistance Act and Real Property Acquisition Policies Act of 1970.

6. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

7. Executive Orders: E.O. 11990 Protection of Wetlands; E.O. 11988 Floodplain Management; E.O. 12898 Federal Actions to Address Environmental Justice in Minority and Low Income Populations; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: March 11, 2009.
Cindy Vigue,
Director, State Programs, Federal Highway Administration, Sacramento, California.

[FR Doc. E9-5808 Filed 3-17-09; 8:45 am]

BILLING CODE 4910-22-P